DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

On December 9, 2022, OFAC determined that the property and interests in property subject to U.S. jurisdiction of the following persons are blocked under the relevant sanctions authority listed below.

BILLING CODE 4810-AL-P

BILLING CODE 4810-AL-C

On December 9, 2022, OFAC also identified the following vessels as property in which a blocked person has an interest under the relevant sanctions authority listed below.

Vessels

1. FU YUAN YU 7601 Fishing Vessel China flag; Vessel Registration Identification IMO 9891476 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

2. FU YUAN YU 7602 Fishing Vessel China flag; Vessel Registration Identification IMO 9891488 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

3. FU YUAN YU 7603 Fishing Vessel China flag; Vessel Registration Identification IMO 9891490 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

4. FU YUAN YU 7861 Fishing Vessel China flag; Vessel Registration Identification IMO 9828663 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

5. FU YUAN YU 7862 Fishing Vessel China flag; Vessel Registration Identification IMO 9828675 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

6. FU YUAN YU 7863 Fishing Vessel China flag; Vessel Registration Identification IMO 9828699 (vessel) [GLOMAG] (Linked To: FUJIAN PROVINCIAL PINGTAN COUNTY OCEAN FISHING GROUP CO., LTD.).

7. FU YUAN YU 7864 Fishing Vessel China flag; Vessel Registration Identification IMO 9828687 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

8. FU YUAN YU 7868 Fishing Vessel China flag; Vessel Registration Identification IMO 9872585 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

9. FU YUAN YU 7869 Fishing Vessel China flag; Vessel Registration Identification IMO 9872602 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

10. FU YUAN YU 7870 Fishing Vessel China flag; Vessel Registration Identification IMO 9874131 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

11. FU YUAN YU 7871 Fishing Vessel China flag; Vessel Registration Identification IMO 9874155 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

12. FU YUAN YU 7872 Fishing Vessel China flag; Vessel Registration Identification IMO 9874064 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

13. FU YUAN YU 7873 Fishing Vessel China flag; Vessel Registration Identification IMO 9874167 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

14. FU YUAN YU 7874 Fishing Vessel China flag; Vessel Registration Identification IMO 9879715 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

15. FU YUAN YU 7875 Fishing Vessel China flag; Vessel Registration Identification IMO 9879727 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

16. FU YUAN YU 7876 Fishing Vessel China flag; Vessel Registration Identification IMO 8537097 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

17. FU YUAN YU 7877 Fishing Vessel China flag; Vessel Registration Identification IMO 8537102 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

18. FU YUAN YU 7882 Fishing Vessel China flag; Vessel Registration Identification IMO 9828754 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

19. FU YUAN YU 7883 Fishing Vessel China flag; Vessel Registration Identification IMO 9828766 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

20. FU YUAN YU 7886 Fishing Vessel China flag; Vessel Registration Identification IMO 9842293 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

21. FU YUAN YU 7887 Fishing Vessel China flag; Vessel Registration Identification IMO 9842308 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

22. FU YUAN YU 7890 Fishing Vessel China flag; Vessel Registration Identification IMO 9878761 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

23. FU YUAN YU 7891 Fishing Vessel China flag; Vessel Registration Identification IMO 9878773 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

24. FU YUAN YU 7892 Fishing Vessel China flag; Vessel Registration Identification IMO 9879686 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

25. FU YUAN YU 7893 Fishing Vessel China flag; Vessel Registration Identification IMO 9878785 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

26. FU YUAN YU 7894 Fishing Vessel China flag; Vessel Registration Identification IMO 9871232 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

27. FU YUAN YU 7895 Fishing Vessel China flag; Vessel Registration Identification IMO 9871244 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

28. FU YUAN YU 7896 Fishing Vessel China flag; Vessel Registration Identification IMO 9872224 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

29. FU YUAN YU 7897 Fishing Vessel China flag; Vessel Registration Identification IMO 9872262 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

30. FU YUAN YU 7898 Fishing Vessel China flag; Vessel Registration Identification IMO 9872274 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

31. FU YUAN YU 7899 Fishing Vessel China flag; Vessel Registration Identification IMO 9872286 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

32. FU YUAN YU 8672 Fishing Vessel China flag; Vessel Registration Identification IMO 9869291 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

33. FU YUAN YU 8673 Fishing Vessel China flag; Vessel Registration Identification IMO 9869473 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

34. FU YUAN YU 8674 Fishing Vessel China flag; Vessel Registration Identification IMO 9869485 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

35. FU YUAN YU 8675 Fishing Vessel China flag; Vessel Registration Identification IMO 9869497 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

36. FU YUAN YU 8676 Fishing Vessel China flag; Vessel Registration Identification IMO 9870123 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

37. FU YUAN YU 8677 Fishing Vessel China flag; Vessel Registration Identification IMO 9870238 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

38. FU YUAN YU 8678 Fishing Vessel China flag; Vessel Registration Identification IMO 9870240 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

39. FU YUAN YU YUN 995 Fish Carrier China flag; Vessel Registration Identification IMO 9887152 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

40. FU YUAN YU YUN 997 Fish Carrier China flag; Vessel Registration Identification IMO 9887853 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

41. FU YUAN YU 005 Fishing Vessel China flag; Vessel Registration Identification IMO 7815246 (vessel) [GLOMAG] (Linked To: FUZHOU HONGLONG OCEAN FISHING CO., LTD.).

Identified as property in which FUZHOU HONGLONG OCEAN FISHING CO., LTD., a person whose property and interests in property are blocked pursuant to E.O. 13818, has an interest.

42. FU YUAN YU 008 Fishing Vessel China flag; Vessel Registration Identification IMO 8403698 (vessel) [GLOMAG] (Linked To: FUZHOU HONGLONG OCEAN FISHING CO., LTD.).

Identified as property in which FUZHOU HONGLONG OCEAN FISHING CO., LTD., a person whose property and interests in property are blocked pursuant to E.O. 13818, has an interest.

43. FU YUAN YU 557 Fishing Vessel China flag; Vessel Registration Identification IMO 8820509 (vessel) [GLOMAG] (Linked To: FUZHOU HONGLONG OCEAN FISHING CO., LTD.).

Identified as property in which FUZHOU HONGLONG OCEAN FISHING CO., LTD., a person whose property and interests in property are blocked pursuant to E.O. 13818, has an interest.

44. FU YUAN YU 558 Fishing Vessel China flag; Vessel Registration Identification IMO 9031947 (vessel) [GLOMAG] (Linked To: FUZHOU HONGLONG OCEAN FISHING CO., LTD.).

Identified as property in which FUZHOU HONGLONG OCEAN FISHING CO., LTD., a person whose property and interests in property are blocked pursuant to E.O. 13818, has an interest.

45. FU YUAN YU 559 Fishing Vessel China flag; Vessel Registration Identification IMO 9016571 (vessel) [GLOMAG] (Linked To: FUZHOU HONGLONG OCEAN FISHING CO., LTD.).

Identified as property in which FUZHOU HONGLONG OCEAN FISHING CO., LTD., a person whose property and interests in property are blocked pursuant to E.O. 13818, has an interest.

46. FU YUAN YU 7865 Fishing Vessel China flag; Vessel Registration Identification IMO 9828704 (vessel) [GLOMAG] (Linked To: FUZHOU HONGLONG OCEAN FISHING CO., LTD.).

Identified as property in which FUZHOU HONGLONG OCEAN FISHING CO., LTD., a person whose property and interests in property are blocked pursuant to E.O. 13818, has an interest.

47. FU YUAN YU 7866 Fishing Vessel China flag; Vessel Registration Identification IMO 9828716 (vessel) [GLOMAG] (Linked To: FUZHOU HONGLONG OCEAN FISHING CO., LTD.).

Identified as property in which FUZHOU HONGLONG OCEAN FISHING CO., LTD., a person whose property and interests in property are blocked pursuant to E.O. 13818, has an interest.

48. FU YUAN YU 7884 Fishing Vessel China flag; Vessel Registration Identification IMO 9842279 (vessel) [GLOMAG] (Linked To: FUZHOU HONGLONG OCEAN FISHING CO., LTD.).

Identified as property in which FUZHOU HONGLONG OCEAN FISHING CO., LTD., a person whose property and interests in property are blocked pursuant to E.O. 13818, has an interest.

49. FU YUAN YU 7885 Fishing Vessel China flag; Vessel Registration Identification IMO 9842281 (vessel) [GLOMAG] (Linked To: FUZHOU HONGLONG OCEAN FISHING CO., LTD.).

Identified as property in which FUZHOU HONGLONG OCEAN FISHING CO., LTD., a person whose property and interests in property are blocked pursuant to E.O. 13818, has an interest.

50. FU YUAN YU 7888 Fishing Vessel China flag; Vessel Registration Identification IMO 9872561 (vessel) [GLOMAG] (Linked To: FUZHOU HONGLONG OCEAN FISHING CO., LTD.).

Identified as property in which FUZHOU HONGLONG OCEAN FISHING CO., LTD., a person whose property and interests in property are blocked pursuant to E.O. 13818, has an interest.

51. FU YUAN YU 7889 Fishing Vessel China flag; Vessel Registration Identification IMO 9872573 (vessel) [GLOMAG] (Linked To: FUZHOU HONGLONG OCEAN FISHING CO., LTD.).

Identified as property in which FUZHOU HONGLONG OCEAN FISHING CO., LTD., a person whose property and interests in property are blocked pursuant to E.O. 13818, has an interest.

52. FU YUAN YU 7900 Fishing Vessel China flag; Vessel Registration Identification IMO 9888273 (vessel) [GLOMAG] (Linked To: FUZHOU HONGLONG OCEAN FISHING CO., LTD.).

Identified as property in which FUZHOU HONGLONG OCEAN FISHING CO., LTD., a person whose property and interests in property are blocked pursuant to E.O. 13818, has an interest.

53. FU YUAN YU 7901 Fishing Vessel China flag; Vessel Registration Identification IMO 9888285 (vessel) [GLOMAG] (Linked To: FUZHOU HONGLONG OCEAN FISHING CO., LTD.).

Identified as property in which FUZHOU HONGLONG OCEAN FISHING CO., LTD., a person whose property and interests in property are blocked pursuant to E.O. 13818, has an interest.

54. FU YUAN YU 7902 Fishing Vessel China flag; Vessel Registration Identification IMO 9888297 (vessel) [GLOMAG] (Linked To: FUZHOU HONGLONG OCEAN FISHING CO., LTD.).

Identified as property in which FUZHOU HONGLONG OCEAN FISHING CO., LTD., a person whose property and interests in property are blocked pursuant to E.O. 13818, has an interest.

55. FU YUAN YU 8635 Fishing Vessel China flag; Vessel Registration Identification IMO 9934503 (vessel) [GLOMAG] (Linked To: FUZHOU HONGLONG OCEAN FISHING CO., LTD.).

Identified as property in which FUZHOU HONGLONG OCEAN FISHING CO., LTD., a person whose property and interests in property are blocked pursuant to E.O. 13818, has an interest.

56. FU YUAN YU 8636 Fishing Vessel China flag; Vessel Registration Identification IMO 9933717 (vessel) [GLOMAG] (Linked To: FUZHOU HONGLONG OCEAN FISHING CO., LTD.).

Identified as property in which FUZHOU HONGLONG OCEAN FISHING CO., LTD., a person whose property and interests in property are blocked pursuant to E.O. 13818, has an interest.

57. FU YUAN YU 8637 Fishing Vessel China flag; Vessel Registration Identification IMO 9933729 (vessel) [GLOMAG] (Linked To: FUZHOU HONGLONG OCEAN FISHING CO., LTD.).

Identified as property in which FUZHOU HONGLONG OCEAN FISHING CO., LTD., a person whose property and interests in property are blocked pursuant to E.O. 13818, has an interest.

58. FU YUAN YU 8638 Fishing Vessel China flag; Vessel Registration Identification IMO 9933731 (vessel) [GLOMAG] (Linked To: FUZHOU HONGLONG OCEAN FISHING CO., LTD.).

Identified as property in which FUZHOU HONGLONG OCEAN FISHING CO., LTD., a person whose property and interests in property are blocked pursuant to E.O. 13818, has an interest.

59. FU YUAN YU 8639 Fishing Vessel China flag; Vessel Registration Identification IMO 9934515 (vessel) [GLOMAG] (Linked To: FUZHOU HONGLONG OCEAN FISHING CO., LTD.).

Identified as property in which FUZHOU HONGLONG OCEAN FISHING CO., LTD., a person whose property and interests in property are blocked pursuant to E.O. 13818, has an interest.

60. FU YUAN YU 8640 Fishing Vessel China flag; Vessel Registration Identification IMO 9934527 (vessel) [GLOMAG] (Linked To: FUZHOU HONGLONG OCEAN FISHING CO., LTD.).

Identified as property in which FUZHOU HONGLONG OCEAN FISHING CO., LTD., a person whose property and interests in property are blocked pursuant to E.O. 13818, has an interest.

61. FU YUAN YU 8641 Fishing Vessel China flag; Vessel Registration Identification IMO 9934539 (vessel) [GLOMAG] (Linked To: FUZHOU HONGLONG OCEAN FISHING CO., LTD.).

Identified as property in which FUZHOU HONGLONG OCEAN FISHING CO., LTD., a person whose property and interests in property are blocked pursuant to E.O. 13818, has an interest.

62. FU YUAN YU 8642 Fishing Vessel China flag; Vessel Registration Identification IMO 9934541 (vessel) [GLOMAG] (Linked To: FUZHOU HONGLONG OCEAN FISHING CO., LTD.).

Identified as property in which FUZHOU HONGLONG OCEAN FISHING CO., LTD., a person whose property and interests in property are blocked pursuant to E.O. 13818, has an interest.

63. FU YUAN YU 8643 Fishing Vessel China flag; Vessel Registration Identification IMO 9934553 (vessel) [GLOMAG] (Linked To: FUZHOU HONGLONG OCEAN FISHING CO., LTD.).

Identified as property in which FUZHOU HONGLONG OCEAN FISHING CO., LTD., a person whose property and interests in property are blocked pursuant to E.O. 13818, has an interest.

64. FU YUAN YU 8644 Fishing Vessel China flag; Vessel Registration Identification IMO 9934565 (vessel) [GLOMAG] (Linked To: FUZHOU HONGLONG OCEAN FISHING CO., LTD.).

Identified as property in which FUZHOU HONGLONG OCEAN FISHING CO., LTD., a person whose property and interests in property are blocked pursuant to E.O. 13818, has an interest.

65. FU YUAN YU 8645 Fishing Vessel China flag; Vessel Registration Identification IMO 9934577 (vessel) [GLOMAG] (Linked To: FUZHOU HONGLONG OCEAN FISHING CO., LTD.).

Identified as property in which FUZHOU HONGLONG OCEAN FISHING CO., LTD., a person whose property and interests in property are blocked pursuant to E.O. 13818, has an interest.

66. FU YUAN YU 8646 Fishing Vessel China flag; Vessel Registration Identification IMO 9934589 (vessel) [GLOMAG] (Linked To: FUZHOU HONGLONG OCEAN FISHING CO., LTD.).

Identified as property in which FUZHOU HONGLONG OCEAN FISHING CO., LTD., a person whose property and interests in property are blocked pursuant to E.O. 13818, has an interest.

67. FU YUAN YU 8647 Fishing Vessel China flag; Vessel Registration Identification IMO 9940497 (vessel) [GLOMAG] (Linked To: FUZHOU HONGLONG OCEAN FISHING CO., LTD.).

Identified as property in which FUZHOU HONGLONG OCEAN FISHING CO., LTD., a person whose property and interests in property are blocked pursuant to E.O. 13818, has an interest.

68. FU YUAN YU 8648 Fishing Vessel China flag; Vessel Registration Identification IMO 9940538 (vessel) [GLOMAG] (Linked To: FUZHOU HONGLONG OCEAN FISHING CO., LTD.).

Identified as property in which FUZHOU HONGLONG OCEAN FISHING CO., LTD., a person whose property and interests in property are blocked pursuant to E.O. 13818, has an interest.

69. FU YUAN YU 8649 Fishing Vessel China flag; Vessel Registration Identification IMO 9940540 (vessel) [GLOMAG] (Linked To: FUZHOU HONGLONG OCEAN FISHING CO., LTD.).

Identified as property in which FUZHOU HONGLONG OCEAN FISHING CO., LTD., a person whose property and interests in property are blocked pursuant to E.O. 13818, has an interest.

70. FU YUAN YU 8650 Fishing Vessel China flag; Vessel Registration Identification IMO 9940552 (vessel) [GLOMAG] (Linked To: FUZHOU HONGLONG OCEAN FISHING CO., LTD.).

Identified as property in which FUZHOU HONGLONG OCEAN FISHING CO., LTD., a person whose property and interests in property are blocked pursuant to E.O. 13818, has an interest.

71. FU YUAN YU 8651 Fishing Vessel China flag; Vessel Registration Identification IMO 9940576 (vessel) [GLOMAG] (Linked To: FUZHOU HONGLONG OCEAN FISHING CO., LTD.).

Identified as property in which FUZHOU HONGLONG OCEAN FISHING CO., LTD., a person whose property and interests in property are blocked pursuant to E.O. 13818, has an interest.

72. FU YUAN YU 8652 Fishing Vessel China flag; Vessel Registration Identification IMO 9940590 (vessel) [GLOMAG] (Linked To: FUZHOU HONGLONG OCEAN FISHING CO., LTD.).

Identified as property in which FUZHOU HONGLONG OCEAN FISHING CO., LTD., a person whose property and interests in property are blocked pursuant to E.O. 13818, has an interest.

73. FU YUAN YU 8653 Fishing Vessel China flag; Vessel Registration Identification IMO 9940617 (vessel) [GLOMAG] (Linked To: FUZHOU HONGLONG OCEAN FISHING CO., LTD.).

Identified as property in which FUZHOU HONGLONG OCEAN FISHING CO., LTD., a person whose property and interests in property are blocked pursuant to E.O. 13818, has an interest.

74. FU YUAN YU 8654 Fishing Vessel China flag; Vessel Registration Identification IMO 9940629 (vessel) [GLOMAG] (Linked To: FUZHOU HONGLONG OCEAN FISHING CO., LTD.).

Identified as property in which FUZHOU HONGLONG OCEAN FISHING CO., LTD., a person whose property and interests in property are blocked pursuant to E.O. 13818, has an interest.

75. FU YUAN YU 8660 Fishing Vessel China flag; Vessel Registration Identification IMO 9870111 (vessel) [GLOMAG] (Linked To: FUZHOU HONGLONG OCEAN FISHING CO., LTD.).

Identified as property in which FUZHOU HONGLONG OCEAN FISHING CO., LTD., a person whose property and interests in property are blocked pursuant to E.O. 13818, has an interest.

76. FU YUAN YU 8661 Fishing Vessel China flag; Vessel Registration Identification IMO 9870587 (vessel) [GLOMAG] (Linked To: FUZHOU HONGLONG OCEAN FISHING CO., LTD.).

Identified as property in which FUZHOU HONGLONG OCEAN FISHING CO., LTD., a person whose property and interests in property are blocked pursuant to E.O. 13818, has an interest.

77. FU YUAN YU 8662 Fishing Vessel China flag; Vessel Registration Identification IMO 9870599 (vessel) [GLOMAG] (Linked To: FUZHOU HONGLONG OCEAN FISHING CO., LTD.).

Identified as property in which FUZHOU HONGLONG OCEAN FISHING CO., LTD., a person whose property and interests in property are blocked pursuant to E.O. 13818, has an interest.

78. FU YUAN YU 8695 Fishing Vessel China flag; Vessel Registration Identification IMO 9916692 (vessel) [GLOMAG] (Linked To: FUZHOU HONGLONG OCEAN FISHING CO., LTD.).

Identified as property in which FUZHOU HONGLONG OCEAN FISHING CO., LTD., a person whose property and interests in property are blocked pursuant to E.O. 13818, has an interest.

79. FU YUAN YU 8696 Fishing Vessel China flag; Vessel Registration Identification IMO 9916654 (vessel) [GLOMAG] (Linked To: FUZHOU HONGLONG OCEAN FISHING CO., LTD.).

Identified as property in which FUZHOU HONGLONG OCEAN FISHING CO., LTD., a person whose property and interests in property are blocked pursuant to E.O. 13818, has an interest.

80. FU YUAN YU 8697 Fishing Vessel China flag; Vessel Registration Identification IMO 9916707 (vessel) [GLOMAG] (Linked To: FUZHOU HONGLONG OCEAN FISHING CO., LTD.).

Identified as property in which FUZHOU HONGLONG OCEAN FISHING CO., LTD., a person whose property and interests in property are blocked pursuant to E.O. 13818, has an interest.

81. FU YUAN YU 8698 Fishing Vessel China flag; Vessel Registration Identification IMO 9916721 (vessel) [GLOMAG] (Linked To: FUZHOU HONGLONG OCEAN FISHING CO., LTD.).

Identified as property in which FUZHOU HONGLONG OCEAN FISHING CO., LTD., a person whose property and interests in property are blocked pursuant to E.O. 13818, has an interest.

82. FU YUAN YU F30 Refrigerated Cargo Ship China flag; Vessel Registration Identification IMO 9096507 (vessel) [GLOMAG] (Linked To: FUZHOU HONGLONG OCEAN FISHING CO., LTD.).

Identified as property in which FUZHOU HONGLONG OCEAN FISHING CO., LTD., a person whose property and interests in property are blocked pursuant to E.O. 13818, has an interest.

83. FU YUAN YU F91 Refrigerated Cargo Ship China flag; Vessel Registration Identification IMO 8414295 (vessel) [GLOMAG] (Linked To: FUZHOU HONGLONG OCEAN FISHING CO., LTD.).

Identified as property in which FUZHOU HONGLONG OCEAN FISHING CO., LTD., a person whose property and interests in property are blocked pursuant to E.O. 13818, has an interest.

84. FU YUAN YU YUN 991 Fish Carrier China flag; Vessel Registration Identification IMO 9920954 (vessel) [GLOMAG] (Linked To: FUZHOU HONGLONG OCEAN FISHING CO., LTD.).

Identified as property in which FUZHOU HONGLONG OCEAN FISHING CO., LTD., a person whose property and interests in property are blocked pursuant to E.O. 13818, has an interest.

85. FU YUAN YU YUN 993 Fish Carrier China flag; Vessel Registration Identification IMO 9897066 (vessel) [GLOMAG] (Linked To: FUZHOU HONGLONG OCEAN FISHING CO., LTD.).

Identified as property in which FUZHOU HONGLONG OCEAN FISHING CO., LTD., a person whose property and interests in property are blocked pursuant to E.O. 13818, has an interest.

86. HONG FENG 1 HAO Fish Carrier China flag; Vessel Registration Identification IMO 9756573 (vessel) [GLOMAG] (Linked To: FUZHOU HONGLONG OCEAN FISHING CO., LTD.).

Identified as property in which FUZHOU HONGLONG OCEAN FISHING CO., LTD., a person whose property and interests in property are blocked pursuant to E.O. 13818, has an interest.

87. MIN FUZHOU YU F009 Fish Carrier China flag; Vessel Registration Identification IMO 8994013 (vessel) [GLOMAG] (Linked To: FUZHOU HONGLONG OCEAN FISHING CO., LTD.).

Identified as property in which FUZHOU HONGLONG OCEAN FISHING CO., LTD., a person whose property and interests in property are blocked pursuant to E.O. 13818, has an interest.

88. FU YUAN YU 7604 Fishing Vessel China flag; Vessel Registration Identification IMO 9891505 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

89. FU YUAN YU 7605 Fishing Vessel China flag; Vessel Registration Identification IMO 9891608 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

90. FU YUAN YU 7606 Fishing Vessel China flag; Vessel Registration Identification IMO 9891610 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

91. FU YUAN YU 7611 Fishing Vessel China flag; Vessel Registration Identification IMO 9896294 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

92. FU YUAN YU 7612 Fishing Vessel China flag; Vessel Registration Identification IMO 9896309 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

93. FU YUAN YU 7613 Fishing Vessel China flag; Vessel Registration Identification IMO 9896323 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

94. FU YUAN YU 7614 Fishing Vessel China flag; Vessel Registration Identification IMO 9896335 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

95. FU YUAN YU 7615 Fishing Vessel China flag; Vessel Registration Identification IMO 9896347 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

96. FU YUAN YU 7616 Fishing Vessel China flag; Vessel Registration Identification IMO 9896361 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

97. FU YUAN YU 7617 Fishing Vessel China flag; Vessel Registration Identification IMO 9896373 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

98. FU YUAN YU 7618 Fishing Vessel China flag; Vessel Registration Identification IMO 9896397 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

99. FU YUAN YU 7619 Fishing Vessel China flag; Vessel Registration Identification IMO 9896402 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

100. FU YUAN YU 7620 Fishing Vessel China flag; Vessel Registration Identification IMO 9914577 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

101. FU YUAN YU 7621 Fishing Vessel China flag; Vessel Registration Identification IMO 9914589 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

102. FU YUAN YU 7622 Fishing Vessel China flag; Vessel Registration Identification IMO 9914591 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

103. FU YUAN YU 7624 Fishing Vessel China flag; Vessel Registration Identification IMO 9914606 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

104. FU YUAN YU 7625 Fishing Vessel China flag; Vessel Registration Identification IMO 9914723 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

105. FU YUAN YU 7626 Fishing Vessel China flag; Vessel Registration Identification IMO 9914735 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

106. FU YUAN YU 7627 Fishing Vessel China flag; Vessel Registration Identification IMO 9914747 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

107. FU YUAN YU 7628 Fishing Vessel China flag; Vessel Registration Identification IMO 9914759 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

108. FU YUAN YU 7629 Fishing Vessel China flag; Vessel Registration Identification IMO 9914761 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

109. FU YUAN YU 7630 Fishing Vessel China flag; Vessel Registration Identification IMO 9914785 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

110. FU YUAN YU 8679 Fishing Vessel China flag; Vessel Registration Identification IMO 9892365 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

111. FU YUAN YU 8680 Fishing Vessel China flag; Vessel Registration Identification IMO 9892377 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

112. FU YUAN YU 8681 Fishing Vessel China flag; Vessel Registration Identification IMO 9893137 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

113. FU YUAN YU 8682 Fishing Vessel China flag; Vessel Registration Identification IMO 9893149 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

114. FU YUAN YU 8683 Fishing Vessel China flag; Vessel Registration Identification 9894387 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

115. FU YUAN YU 8684 Fishing Vessel China flag; Vessel Registration Identification IMO 9894492 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

116. FU YUAN YU 8685 Fishing Vessel China flag; Vessel Registration Identification IMO 9894507 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

117. FU YUAN YU 8686 Fishing Vessel China flag; Vessel Registration Identification IMO 9894399 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

118. FU YUAN YU 8687 Fishing Vessel China flag; Vessel Registration Identification IMO 9894519 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

119. FU YUAN YU 8688 Fishing Vessel China flag; Vessel Registration Identification IMO 9899052 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

120. FU YUAN YU 8689 Fishing Vessel China flag; Vessel Registration Identification IMO 9899064 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

121. FU YUAN YU 8690 Fishing Vessel China flag; Vessel Registration Identification IMO 9899076 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

122. FU YUAN YU 8691 Fishing Vessel China flag; Vessel Registration Identification IMO 9899088 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

123. FU YUAN YU 8692 Fishing Vessel China flag; Vessel Registration Identification IMO 9899105 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

124. FU YUAN YU 8693 Fishing Vessel China flag; Vessel Registration Identification IMO 9899117 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

125. FU YUAN YU YUN 992 Fish Carrier China flag; Vessel Registration Identification IMO 9910909 (vessel) [GLOMAG] (Linked To: FUJIAN PROVINCIAL PINGTAN COUNTY OCEAN FISHING GROUP CO., LTD.).

Identified as property in which FUJIAN PROVINCIAL PINGTAN COUNTY OCEAN FISHING GROUP CO., LTD., a person whose property and interests in property are blocked pursuant to E.O. 13818, has an interest.

126. LONG XING 601 Fishing Vessel China flag; Vessel Registration Identification IMO 8828329 (vessel) [GLOMAG] (Linked To: DALIAN OCEAN FISHING COMPANY LIMITED).

Identified as property in which DALIAN OCEAN FISHING COMPANY LIMITED, a person whose property and interests in property are blocked pursuant to E.O. 13818, has an interest.

127. LONG XING 602 Fishing Vessel China flag; Vessel Registration Identification IMO 8011055 (vessel) [GLOMAG] (Linked To: DALIAN OCEAN FISHING COMPANY LIMITED).

Identified as property in which DALIAN OCEAN FISHING COMPANY LIMITED, a person whose property and interests in property are blocked pursuant to E.O. 13818, has an interest.

128. LONG XING 603 Fishing Vessel China flag; Vessel Registration Identification IMO 7416349 (vessel) [GLOMAG] (Linked To: DALIAN OCEAN FISHING COMPANY LIMITED).

Identified as property in which DALIAN OCEAN FISHING COMPANY LIMITED, a person whose property and interests in property are blocked pursuant to E.O. 13818, has an interest.

129. LONG XING 605 Fishing Vessel China flag; Vessel Registration Identification IMO 8682490 (vessel) [GLOMAG] (Linked To: DALIAN OCEAN FISHING COMPANY LIMITED).

Identified as property in which DALIAN OCEAN FISHING COMPANY LIMITED, a person whose property and interests in property are blocked pursuant to E.O. 13818, has an interest.

130. LONG XING 606 Fishing Vessel China flag; Vessel Registration Identification IMO 8682505 (vessel) [GLOMAG] (Linked To: DALIAN OCEAN FISHING COMPANY LIMITED).

Identified as property in which DALIAN OCEAN FISHING COMPANY LIMITED, a person whose property and interests in property are blocked pursuant to E.O. 13818, has an interest.

131. LONG XING 607 Fishing Vessel China flag; Vessel Registration Identification IMO 8682517 (vessel) [GLOMAG] (Linked To: DALIAN OCEAN FISHING COMPANY LIMITED).

Identified as property in which DALIAN OCEAN FISHING COMPANY LIMITED, a person whose property and interests in property are blocked pursuant to E.O. 13818, has an interest.

132. LONG XING 608 Fishing Vessel China flag; Vessel Registration Identification IMO 8682529 (vessel) [GLOMAG] (Linked To: DALIAN OCEAN FISHING COMPANY LIMITED).

Identified as property in which DALIAN OCEAN FISHING COMPANY LIMITED, a person whose property and interests in property are blocked pursuant to E.O. 13818, has an interest.

133. LONG XING 609 Fishing Vessel China flag; Vessel Registration Identification IMO 9004449 (vessel) [GLOMAG] (Linked To: DALIAN OCEAN FISHING COMPANY LIMITED).

Identified as property in which DALIAN OCEAN FISHING COMPANY LIMITED, a person whose property and interests in property are blocked pursuant to E.O. 13818, has an interest.

134. LONG XING 610 Fishing Vessel China flag; Vessel Registration Identification IMO 8713421 (vessel) [GLOMAG] (Linked To: DALIAN OCEAN FISHING COMPANY LIMITED).

Identified as property in which DALIAN OCEAN FISHING COMPANY LIMITED, a person whose property and interests in property are blocked pursuant to E.O. 13818, has an interest.

135. LONG XING 611 Fishing Vessel China flag; Vessel Registration Identification IMO 9037678 (vessel) [GLOMAG] (Linked To: DALIAN OCEAN FISHING COMPANY LIMITED).

Identified as property in which DALIAN OCEAN FISHING COMPANY LIMITED, a person whose property and interests in property are blocked pursuant to E.O. 13818, has an interest.

136. LONG XING 612 Fishing Vessel China flag; Vessel Registration Identification IMO 9038294 (vessel) [GLOMAG] (Linked To: DALIAN OCEAN FISHING COMPANY LIMITED).

Identified as property in which DALIAN OCEAN FISHING COMPANY LIMITED, a person whose property and interests in property are blocked pursuant to E.O. 13818, has an interest.

137. LONG XING 621 Fishing Vessel China flag; Vessel Registration Identification IMO 8909769 (vessel) [GLOMAG] (Linked To: DALIAN OCEAN FISHING COMPANY LIMITED).

Identified as property in which DALIAN OCEAN FISHING COMPANY LIMITED, a person whose property and interests in property are blocked pursuant to E.O. 13818, has an interest.

138. LONG XING 622 Fishing Vessel China flag; Vessel Registration Identification IMO 8915158 (vessel) [GLOMAG] (Linked To: DALIAN OCEAN FISHING COMPANY LIMITED).

Identified as property in which DALIAN OCEAN FISHING COMPANY LIMITED, a person whose property and interests in property are blocked pursuant to E.O. 13818, has an interest.

139. LONG XING 623 Fishing Vessel China flag; Vessel Registration Identification IMO 8910976 (vessel) [GLOMAG] (Linked To: DALIAN OCEAN FISHING COMPANY LIMITED).

Identified as property in which DALIAN OCEAN FISHING COMPANY LIMITED, a person whose property and interests in property are blocked pursuant to E.O. 13818, has an interest.

140. LONG XING 625 Fishing Vessel China flag; Vessel Registration Identification IMO 9036777 (vessel) [GLOMAG] (Linked To: DALIAN OCEAN FISHING COMPANY LIMITED).

Identified as property in which DALIAN OCEAN FISHING COMPANY LIMITED, a person whose property and interests in property are blocked pursuant to E.O. 13818, has an interest.

141. LONG XING 626 Fishing Vessel China flag; Vessel Registration Identification IMO 9031935 (vessel) [GLOMAG] (Linked To: DALIAN OCEAN FISHING COMPANY LIMITED).

Identified as property in which DALIAN OCEAN FISHING COMPANY LIMITED, a person whose property and interests in property are blocked pursuant to E.O. 13818, has an interest.

142. LONG XING 627 Fishing Vessel China flag; Vessel Registration Identification IMO 9016258 (vessel) [GLOMAG] (Linked To: DALIAN OCEAN FISHING COMPANY LIMITED).

Identified as property in which DALIAN OCEAN FISHING COMPANY LIMITED, a person whose property and interests in property are blocked pursuant to E.O. 13818, has an interest.

143. LONG XING 628 Fishing Vessel China flag; Vessel Registration Identification IMO 9016246 (vessel) [GLOMAG] (Linked To: DALIAN OCEAN FISHING COMPANY LIMITED).

Identified as property in which DALIAN OCEAN FISHING COMPANY LIMITED, a person whose property and interests in property are blocked pursuant to E.O. 13818, has an interest.

144. LONG XING 629 Fishing Vessel China flag; Vessel Registration Identification IMO 8687268 (vessel) [GLOMAG] (Linked To: DALIAN OCEAN FISHING COMPANY LIMITED).

Identified as property in which DALIAN OCEAN FISHING COMPANY LIMITED, a person whose property and interests in property are blocked pursuant to E.O. 13818, has an interest.

145. LONG XING 630 Fishing Vessel China flag; Vessel Registration Identification IMO 8687270 (vessel) [GLOMAG] (Linked To: DALIAN OCEAN FISHING COMPANY LIMITED).

Identified as property in which DALIAN OCEAN FISHING COMPANY LIMITED, a person whose property and interests in property are blocked pursuant to E.O. 13818, has an interest.

146. LONG XING 635 Fishing Vessel China flag; Vessel Registration Identification IMO 8648145 (vessel) [GLOMAG] (Linked To: DALIAN OCEAN FISHING COMPANY LIMITED).

Identified as property in which DALIAN OCEAN FISHING COMPANY LIMITED, a person whose property and interests in property are blocked pursuant to E.O. 13818, has an interest.

147. LONG XING 636 Fishing Vessel China flag; Vessel Registration Identification IMO 8648157 (vessel) [GLOMAG] (Linked To: DALIAN OCEAN FISHING COMPANY LIMITED).

Identified as property in which DALIAN OCEAN FISHING COMPANY LIMITED, a person whose property and interests in property are blocked pursuant to E.O. 13818, has an interest.

148. LONG XING 637 Fishing Vessel China flag; Vessel Registration Identification IMO 8648169 (vessel) [GLOMAG] (Linked To: DALIAN OCEAN FISHING COMPANY LIMITED).

Identified as property in which DALIAN OCEAN FISHING COMPANY LIMITED, a person whose property and interests in property are blocked pursuant to E.O. 13818, has an interest.

149. LONG XING 638 Fishing Vessel China flag; Vessel Registration Identification IMO 8648171 (vessel) [GLOMAG] (Linked To: DALIAN OCEAN FISHING COMPANY LIMITED).

Identified as property in which DALIAN OCEAN FISHING COMPANY LIMITED, a person whose property and interests in property are blocked pursuant to E.O. 13818, has an interest.

150. LONG XING 801 Fishing Vessel China flag; Vessel Registration Identification IMO 8529442 (vessel) [GLOMAG] (Linked To: DALIAN OCEAN FISHING COMPANY LIMITED).

Identified as property in which DALIAN OCEAN FISHING COMPANY LIMITED, a person whose property and interests in property are blocked pursuant to E.O. 13818, has an interest.

151. LONG XING 802 Fishing Vessel China flag; Vessel Registration Identification IMO 8529428 (vessel) [GLOMAG] (Linked To: DALIAN OCEAN FISHING COMPANY LIMITED).

Identified as property in which DALIAN OCEAN FISHING COMPANY LIMITED, a person whose property and interests in property are blocked pursuant to E.O. 13818, has an interest.

152. TIAN XIANG 16 Fishing Vessel China flag; Vessel Registration Identification IMO 8947553 (vessel) [GLOMAG] (Linked To: DALIAN OCEAN FISHING COMPANY LIMITED).

Identified as property in which DALIAN OCEAN FISHING COMPANY LIMITED, a person whose property and interests in property are blocked pursuant to E.O. 13818, has an interest.

153. TIAN XIANG 18 Fishing Vessel China flag; Vessel Registration Identification IMO 8603690 (vessel) [GLOMAG] (Linked To: DALIAN OCEAN FISHING COMPANY LIMITED).

Identified as property in which DALIAN OCEAN FISHING COMPANY LIMITED, a person whose property and interests in property are blocked pursuant to E.O. 13818, has an interest.

154. TIAN XIANG 7 Fishing Vessel China flag; Vessel Registration Identification IMO 8407802 (vessel) [GLOMAG] (Linked To: DALIAN OCEAN FISHING COMPANY LIMITED).

Identified as property in which DALIAN OCEAN FISHING COMPANY LIMITED, a person whose property and interests in property are blocked pursuant to E.O. 13818, has an interest.

155. TIAN XIANG 8 Fishing Vessel China flag; Vessel Registration Identification IMO 8430562 (vessel) [GLOMAG] (Linked To: DALIAN OCEAN FISHING COMPANY LIMITED).

Identified as property in which DALIAN OCEAN FISHING COMPANY LIMITED, a person whose property and interests in property are blocked pursuant to E.O. 13818, has an interest.

156. TIAN YU 7 Fishing Vessel China flag; Vessel Registration Identification IMO 8651283 (vessel) [GLOMAG] (Linked To: DALIAN OCEAN FISHING COMPANY LIMITED).

Identified as property in which DALIAN OCEAN FISHING COMPANY LIMITED, a person whose property and interests in property are blocked pursuant to E.O. 13818, has an interest.

157. TIAN YU 8 Fishing Vessel China flag; Vessel Registration Identification IMO 8651295 (vessel) [GLOMAG] (Linked To: DALIAN OCEAN FISHING COMPANY LIMITED).

Identified as property in which DALIAN OCEAN FISHING COMPANY LIMITED, a person whose property and interests in property are blocked pursuant to E.O. 13818, has an interest.

Dated: December 9, 2022.
Andrea Gacki,
Director, Office of Foreign Assets Control, U.S. Department of the Treasury.

[FR Doc. 2022-27191 Filed 12-14-22; 8:45 am]

BILLING CODE 4810-AL-P